NATIONAL AERONAUTICS AND SPACE ADMINISTRATION

[Notice 13-106]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: September 19, 2013.

FOR FURTHER INFORMATION CONTACT: Randy Heald, Patent Counsel, Kennedy Space Center, Mail Code CC-A, Kennedy Space Center, FL 32899; telephone (321) 867-7214; fax (321) 867-1817.

NASA Case No.: KSC-13588: Multi-Dimensional Damage Detection for Flat Surfaces;

NASA Case No.: KSC-13366: Self-Healing Polymer Materials for Wire Insulation, Polyimides, Flat Surfaces, and Inflatable Structures.

Sumara M. Thompson-King,
Deputy General Counsel.

[FR Doc. 2013-22721 Filed 9-18-13; 8:45 am]

BILLING CODE 7510-13-P